FEDERAL ELECTION COMMISSION

[Notice 2023-02]

Notice of Public Hearing

AGENCY: Federal Election Commission.

ACTION: Notice of public hearing.

SUMMARY: The Federal Election Commission is announcing the date, time, and place of a public hearing on its audit procedures for political committees that do not receive public funds.

DATES: A hybrid public hearing will be held at 11:00 a.m. on Tuesday, February 14, 2023. Anyone seeking to testify at the hearing must file written comments by Wednesday, February 8, 2023, and must include in the written comments a request to testify. Additional information about written comments appears in the Commission's Notice of Hearing and Request for Public Comments concerning its policies and procedures for the auditing of political committees that do not receive public funds, published on January 9, 2023.

ADDRESSES: The hearing will be held at the Federal Election Commission, 1050 First St. NE, 12th floor Hearing Room, Washington, DC 20463, and virtually. Current COVID-19 safety protocols will apply to all in-person attendees. These protocols are based on the CDC COVID-19 community level in Washington, DC, and will be updated on the Commission's contact page, www.fec.gov/contact/, by the Monday before the hearing. Virtual attendees may access the meeting by going to the Commission's website, www.fec.gov, and clicking on the banner to be taken to the hearing page.

FOR FURTHER INFORMATION CONTACT: Ms. Amy L. Rothstein, Assistant General Counsel, or Ms. Joanna S. Waldstreicher, Attorney, Office of the General Counsel, at audit2023@fec.gov or 202-694-1650.

SUPPLEMENTARY INFORMATION: On January 9, 2023, the Commission published a Notice of Hearing and Request for Public Comments concerning its policies and procedures for the auditing of political committees that do not receive public funds. 88 FR 1228 (Jan. 9, 2023). The Commission will use the public comments that it receives and the testimony of witnesses at the public hearing to help it determine whether to adjust its internal directives or practices and, if so, how. The Commission is not, at this time, seeking comments or testimony on its policies, practices, and procedures regarding audits of publicly funded committees.

The Commission welcomes comments and testimony on how it might increase fairness, substantive and procedural due process, efficiency, and effectiveness of the Commission's auditing of political committees, and how the audit function could best serve the Commission's mission and enhance disclosure and compliance with the Act. The Commission is particularly interested in hearing from committees that have directly interacted with the Commission in the audit process, and their counsel, on how the Commission's audit policies and procedures have facilitated or hindered committees' productive interaction with the agency and substantial compliance with the Act.

On behalf of the Commission,
Dara S. Lindenbaum,
Chair, Federal Election Commission.

[FR Doc. 2023-01021 Filed 1-19-23; 8:45 am]

BILLING CODE 6715-01-P